DEPARTMENT OF ENERGY

Federal Energy Regulatory Commission

Combined Notice of Filings #1

Take notice that the Commission received the following exempt wholesale generator filings:

Docket Numbers: EG20-248-000.

Applicants: Concho Bluff LLC.

Description: Concho Bluff LLC Notice of Self-Certification of Exempt Wholesale Generator Status.

Filed Date: 9/22/20.

Accession Number: 20200922-5091.

Comments Due: 5 p.m. ET 10/13/20.

Docket Numbers: EG20-249-000.

Applicants: Hill Top Energy Center LLC.

Description: Self-Certification of EWG Status of Hill Top Energy Center LLC.

Filed Date: 9/23/20.

Accession Number: 20200923-5029.

Comments Due: 5 p.m. ET 10/14/20.

Take notice that the Commission received the following electric rate filings:

Docket Numbers: ER14-2080-004.

Applicants: Louisiana Generating LLC.

Description: Compliance filing: Reactive Service Rate Schedule Settlement Compliance Filing to be effective 12/18/2018.

Filed Date: 9/23/20.

Accession Number: 20200923-5073.

Comments Due: 5 p.m. ET 10/14/20.

Docket Numbers: ER15-502-005.

Applicants: Bayou Cove Peaking Power, LLC.

Description: Compliance filing: Reactive Service Rate Schedule Settlement Compliance Filing to be effective 12/18/2018.

Filed Date: 9/23/20.

Accession Number: 20200923-5071.

Comments Due: 5 p.m. ET 10/14/20.

Docket Numbers: ER15-1136-005.

Applicants: Big Cajun I Peaking Power LLC.

Description: Compliance filing: Reactive Service Rate Schedule Settlement Compliance Filing to be effective 12/18/2018.

Filed Date: 9/23/20.

Accession Number: 20200923-5072.

Comments Due: 5 p.m. ET 10/14/20.

Docket Numbers: ER17-1394-002; ER19-2728-001; ER19-2729-001.

Applicants: 83WI 8me, LLC, Lily Solar LLC, Lily Solar Lessee, LLC.

Description: Notice of Non-Material Change in Status and PRO FORMA Market-Based Rate Tariff Revisions of the X-Elio Public Utilities.

Filed Date: 9/22/20.

Accession Number: 20200922-5135.

Comments Due: 5 p.m. ET 10/13/20.

Docket Numbers: ER20-588-002.

Applicants: Midcontinent Independent System Operator, Inc.

Description: Compliance filing: 2020-09-23_Compliance Filing for Storage As Transmission Only Asset (SATOA) to be effective 8/11/2020.

Filed Date: 9/23/20.

Accession Number: 20200923-5099.

Comments Due: 5 p.m. ET 10/14/20.

Docket Numbers: ER20-1939-000.

Applicants: Calpine Northeast Development, LLC.

Description: Supplement to May 29, 2020 Calpine Northeast Development, LLC tariff filing, et al.

Filed Date: 9/22/20.

Accession Number: 20200922-5139.

Comments Due: 5 p.m. ET 10/2/20.

Docket Numbers: ER20-2186-001.

Applicants: Fern Solar LLC.

Description: Compliance filing: Compliance to 2 to be effective 12/31/9998.

Filed Date: 9/22/20.

Accession Number: 20200922-5114.

Comments Due: 5 p.m. ET 10/13/20.

Docket Numbers: ER20-2550-001.

Applicants: Entergy Mississippi, LLC.

Description: Tariff Amendment: EML Choctaw Reactive Extension to be effective 12/31/9998.

Filed Date: 9/23/20.

Accession Number: 20200923-5067.

Comments Due: 5 p.m. ET 10/14/20.

Docket Numbers: ER20-2830-000.

Applicants: PPM Roaring Brook, LLC.

Description: Supplement to September 4, 2020 AB Lessee, LLC tariff filing.

Filed Date: 9/22/20.

Accession Number: 20200922-5136.

Comments Due: 5 p.m. ET 10/13/20.

Docket Numbers: ER20-2950-000.

Applicants: PJM Interconnection, L.L.C.

Description: Tariff Cancellation: Notice of Cancellation of ICSA, SA No. 4241; Queue No. AA1-067 to be effective 6/27/2017.

Filed Date: 9/22/20.

Accession Number: 20200922-5084.

Comments Due: 5 p.m. ET 10/13/20.

Docket Numbers: ER20-2951-000.

Applicants: PJM Interconnection, L.L.C.

Description: Tariff Cancellation: Notice of Cancellation of ICSA, SA No. 4067; Queue No. Z2-088 to be effective 3/29/2017.

Filed Date: 9/22/20.

Accession Number: 20200922-5117.

Comments Due: 5 p.m. ET 10/13/20.

Docket Numbers: ER20-2952-000.

Applicants: PPL Electric Utilities Corporation, PJM Interconnection, L.L.C.

Description: § 205(d) Rate Filing: PPL submits Interconnection Agreement, SA No. 5766 with Amtrak to be effective 9/23/2020.

Filed Date: 9/22/20.

Accession Number: 20200922-5121.

Comments Due: 5 p.m. ET 10/13/20.

Docket Numbers: ER20-2953-000.

Applicants: Lone Tree Wind, LLC.

Description: Baseline eTariff Filing: Reactive Power Compensation Filing to be effective 11/22/2020.

Filed Date: 9/23/20.

Accession Number: 20200923-5000.

Comments Due: 5 p.m. ET 10/14/20.

Docket Numbers: ER20-2954-000.

Applicants: Midcontinent Independent System Operator, Inc., American Transmission Company LLC.

Description: § 205(d) Rate Filing: 2020-09-23_SA 3562 ATC-ITC-Dairyland TCEA to be effective 8/28/2020.

Filed Date: 9/23/20.

Accession Number: 20200923-5022.

Comments Due: 5 p.m. ET 10/14/20.

Docket Numbers: ER20-2955-000.

Applicants: Southwest Power Pool, Inc.

Description: § 205(d) Rate Filing: Tariff Clean-Up Filing 3Q2020 to be effective 12/1/2020.

Filed Date: 9/23/20.

Accession Number: 20200923-5026.

Comments Due: 5 p.m. ET 10/14/20.

Docket Numbers: ER20-2956-000.

Applicants: PJM Interconnection, L.L.C.

Description: § 205(d) Rate Filing: PJM submits Revisions to OATT re: Credit Reform Clean-Up to be effective 11/23/2020.

Filed Date: 9/23/20.

Accession Number: 20200923-5030.

Comments Due: 5 p.m. ET 10/14/20.

Docket Numbers: ER20-2957-000.

Applicants: PJM Interconnection, L.L.C.

Description: § 205(d) Rate Filing: First Revised ISA, Service Agreement No. 5067; Queue No. AF2-436 to be effective 8/24/2020.

Filed Date: 9/23/20.

Accession Number: 20200923-5068.

Comments Due: 5 p.m. ET 10/14/20.

Docket Numbers: ER20-2958-000.

Applicants: Gulf Power Company.

Description: § 205(d) Rate Filing: Filing of PowerSouth Interconnection Agreement and Notice of Termination to be effective 8/12/2020.

Filed Date: 9/23/20.

Accession Number: 20200923-5074.

Comments Due: 5 p.m. ET 10/14/20.

Docket Numbers: ER20-2959-000.

Applicants: Antelope Big Sky Ranch LLC.

Description: § 205(d) Rate Filing: Shared Facilities Agreement to be effective 9/24/2020.

Filed Date: 9/23/20.

Accession Number: 20200923-5084.

Comments Due: 5 p.m. ET 10/14/20.

Docket Numbers: ER20-2960-000.

Applicants: Antelope DSR 1, LLC.

Description: § 205(d) Rate Filing: Shared Facilities Agreement to be effective 9/24/2020.

Filed Date: 9/23/20.

Accession Number: 20200923-5100.

Comments Due: 5 p.m. ET 10/14/20.

Docket Numbers: ER20-2961-000.

Applicants: Antelope DSR 2, LLC.

Description: § 205(d) Rate Filing: Shared Facilities Agreement to be effective 9/24/2020.

Filed Date: 9/23/20.

Accession Number: 20200923-5103.

Comments Due: 5 p.m. ET 10/14/20.

Docket Numbers: ER20-2962-000.

Applicants: Antelope DSR 3, LLC.

Description: § 205(d) Rate Filing: Shared Facilities Agreement to be effective 9/24/2020.

Filed Date: 9/23/20.

Accession Number: 20200923-5107.

Comments Due: 5 p.m. ET 10/14/20.

Docket Numbers: ER20-2963-000.

Applicants: PJM Interconnection, L.L.C.

Description: Tariff Cancellation: Notice of Cancellation of Upgrade CSA, SA No. 5357; Queue No. NQ-J468 to be effective 8/26/2020.

Filed Date: 9/23/20.

Accession Number: 20200923-5108.

Comments Due: 5 p.m. ET 10/14/20.

Docket Numbers: ER20-2964-000.

Applicants: PJM Interconnection, L.L.C.

Description: § 205(d) Rate Filing: Original ISA, SA No. 5772; Queue No. AC1-113/AC2-115 to be effective 8/24/2020.

Filed Date: 9/23/20.

Accession Number: 20200923-5113.

Comments Due: 5 p.m. ET 10/14/20.

Take notice that the Commission received the following qualifying facility filings:

Docket Numbers: QF20-1421-000.

Applicants: Patmar Land Co, LLC.

Description: Form 556 of Patmar Land Co, LLC.

Filed Date: 9/22/20.

Accession Number: 20200922-5148.

Comments Due: None-Applicable.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 23, 2020.
Kimberly D. Bose,
Secretary.

[FR Doc. 2020-21460 Filed 9-28-20; 8:45 am]

BILLING CODE 6717-01-P